DEPARTMENT OF COMMERCE

Foreign-Trade Zones Board

[Order No. 1834]

Approval for Expanded Manufacturing Authority; Foreign-Trade Subzone 7M; Amgen Manufacturing Limited (Biotechnology and Healthcare Products); Juncos, Puerto Rico

Pursuant to its authority under the Foreign-Trade Zones Act of June 18, 1934, as amended (19 U.S.C. 81a-81u), the Foreign-Trade Zones Board (the Board) adopts the following Order:

Whereas, the Puerto Rico Industrial Development Company, grantee of FTZ 7, has requested an expansion of the scope of manufacturing authority on behalf of Amgen Manufacturing Limited (Amgen), within Subzone 7M in Juncos, Puerto Rico (FTZ Docket 80-2011, filed 12-15-2011);

Whereas, notice inviting public comment has been given in the Federal Register (76 FR 80332-80333, 12-23-2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand the scope of manufacturing authority under zone procedures within Subzone 7M, as described in the application and Federal Register notice, is approved, subject to the FTZ Act and the Board's regulations, including Section 400.13.

Signed at Washington, DC, this 18 day of June 2012.
Paul Piquado,
Assistant Secretary of Commerce for Import Administration, Alternate Chairman, Foreign-Trade Zones Board.
ATTEST:
Elizabeth Whiteman,
Acting Executive Secretary.

[FR Doc. 2012-15747 Filed 6-26-12; 8:45 am]

BILLING CODE 3510-DS-P